ENVIRONMENTAL PROTECTION AGENCY

40 CFR Part 52

[EPA-R08-OAR-2018-0616; FRL-9988-35-Region 8]

Approval and Promulgation of Implementation Plans; North Dakota; Revisions to Infrastructure Requirements for All National Ambient Air Quality Standards; Carbon Monoxide (CO); Lead (Pb); Nitrogen Dioxide (NO2); Ozone (O3); Particle Pollution (PM2.5, PM10); Sulfur Dioxide (SO2); Recodification

AGENCY: Environmental Protection Agency (EPA).

ACTION: Final rule.

SUMMARY: The Environmental Protection Agency (EPA) is approving revisions to the North Dakota State Implementation Plan (SIP) for all National Ambient Air Quality Standards (NAAQS) for the purposes of transferring authority from the North Dakota Department of Health (NDDH) to the North Dakota Department of Environmental Quality (NDDEQ). We are approving the related recodification of the portions of North Dakota's Air Pollution Rules that have been previously approved into the SIP. The EPA is taking this action pursuant to section 110 of the Clean Air Act (CAA).

DATES: This rule is effective on March 15, 2019.

ADDRESSES: The EPA has established a docket for this action under Docket ID No. EPA-R08-OAR-2018-0616. All documents in the docket are listed on the http://www.regulations.gov website. Although listed in the index, some information is not publicly available, e.g., CBI or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: Kate Gregory, Air Program, EPA, Region 8, Mailcode 8P-AR, 1595 Wynkoop Street, Denver, Colorado 80202-1129, (303) 312-6175, gregory.kate@epa.gov.

SUPPLEMENTARY INFORMATION: Throughout this document “we,” “us,” and “our” means the EPA.

I. Background

The background for this action is discussed in detail in our October 10, 2018 proposal (83 FR 50865). In that document we proposed to approve revisions to the North Dakota SIP for all NAAQS for the purposes of transferring authority from the NDDH to the NDDEQ. We also proposed to approve the related recodification of the portions of North Dakota's Air Pollution Rules that have been previously approved into the SIP.

Table 1 shows the North Dakota air pollution rules that have been recodified in the North Dakota Administrative Code (NDAC) and indicates their old and new references in the SIP.

Table 1—NDAC References: Pre/Post Recodification
Old reference | New reference
33-15-01 | 33.1-15-01
33-15-02 | 33.1-15-02
33-15-03 | 33.1-15-03
33-15-04 | 33.1-15-04
33-15-05 | 33.1-15-05
33-15-06 | 33.1-15-06
33-15-07 | 33.1-15-07
33-15-08 | 33.1-15-08
33-15-10 | 33.1-15-10
33-15-11 | 33.1-15-11
33-15-14 | 33.1-15-14
33-15-15 | 33.1-15-15
33-15-17 | 33.1-15-17
33-15-18 | 33.1-15-18
33-15-19 | 33.1-15-19
33-15-20 | 33.1-15-20
33-15-23 | 33.1-15-23
33-15-25 | 33.1-15-25

We received no comments on our proposal and this rule will be finalized as proposed without revisions.

II. Final Action

We are approving the August 18, 2018 revisions to the North Dakota infrastructure SIP, for all NAAQS, for the purposes of the transfer of authority from NDDH to the NDDEQ. We are also approving the corresponding recodification of the entire SIP. For the basis of our approval, please refer to the October 10, 2018 proposal (83 FR 50865).

All revisions to the SIP program will be federally enforceable as of the effective date of today's approval of the respective revision and recodification of that program. Based on the process outlined in our proposal and our subsequent conversations with the State, we have determined that our approval of the SIP program should become fully effective under federal law on March 15, 2019. The State plans to rely on the date when the EPA signs the final notice for purposes of notifying the state legislature that the EPA has approved these revisions, which will provide for the transfer authority from NDDH to NDDEQ to be effective under State law. Prior to the effective date of this approval, the State intends to take the necessary additional steps as specified in S.L. 2017, ch. 199, Section 1, to ensure that NDDEQ rules and the NDDEQ would become federally enforceable on the effective date of the EPA's approval. Unless and until the NDDEQ rules and agency become fully effective under federal law, for purposes of federal law the EPA recognizes the State's program as currently approved under the North Dakota Department of Health.

III. Incorporation by Reference

In this document, the EPA is finalizing regulatory text that includes incorporation by reference. In accordance with requirements of 1 CFR 51.5, the EPA is finalizing the incorporation by reference the NDDEQ rules regarding definitions and permitting requirements discussed in section I of this preamble. The EPA has made, and will continue to make, these materials generally available through www.regulations.gov and at the EPA Region 8 Office (please contact the person identified in the FOR FURTHER INFORMATION CONTACT section of this preamble for more information). Therefore, these materials have been approved by the EPA for inclusion in the SIP, have been incorporated by reference by the EPA into that plan, are fully federally enforceable under sections 110 and 113 of the CAA as of the effective date of the final rulemaking of the EPA's approval, and will be incorporated by reference in the next update to the SIP compilation.¹

¹ 62 FR 27968 (May 22, 1997).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 8, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Greenhouse gases, Lead, Nitrogen dioxide, Ozone, Particulate matter, Reporting and recordkeeping requirements, Sulfur oxides, Volatile organic compounds.

Dated: December 20, 2018.
Douglas Benevento,
Regional Administrator, Region 8.

40 CFR part 52 is amended as follows:

PART 52—APPROVAL AND PROMULGATION OF IMPLEMENTATION PLANS

1. The authority citation for part 52 continues to read as follows:

Authority: 42 U.S.C. 7401 et seq.

Subpart JJ—North Dakota

2. In § 52.1820, paragraph (c), the table is revised to read as follows:

§ 52.1820 Identification of plan.

* * * * *

(c) * * *

Rule No. | Rule title | State effective date | EPA effective date | Final rule citation/date | Comments
33.1-15-01. General Provisions
33.1-15-01-01 | Purpose | 1/1/2019 | 3/15/2019 | [Insert Federal Register citation], 2/5/2019 | Originally approved as 33-15-01-01 on 5/12/1989, 54 FR 20574.
33.1-15-01-02 | Scope | 1/1/2019 | 3/15/2019 | [Insert Federal Register citation], 2/5/2019 | Originally approved as 33-15-01-02 on 5/12/1989, 54 FR 20574.
33.1-15-01-03 | Authority | 1/1/2019 | 3/15/2019 | [Insert Federal Register citation], 2/5/2019 | Originally approved as 33-15-01-03 on 4/2/2004, 69 FR 17302.
33.1-15-01-04 | Definitions | 1/1/2019 | 3/15/2019 | [Insert Federal Register citation], 2/5/2019 | Originally approved as 33-15-01-04 on 10/21/2016, 81 FR 72718.
33.1-15-01-05 | Abbreviations | 1/1/2019 | 3/15/2019 | [Insert Federal Register citation], 2/5/2019 | Originally approved as 33-15-01-05 on 10/21/2016, 81 FR 72718.
33.1-15-01-06 | Entry onto Premises—Authority | 1/1/2019 | 3/15/2019 | [Insert Federal Register citation], 2/5/2019 | Originally approved as 33-15-01-06 on 5/12/1989, 54 FR 20574.
33.1-15-01-07 | Variances | 1/1/2019 | 3/15/2019 | [Insert Federal Register citation], 2/5/2019 | Originally approved as 33-15-01-07 on 6/26/1992, 57 FR 28619.
33.1-15-01-08 | Circumvention | 1/1/2019 | 3/15/2019 | [Insert Federal Register citation], 2/5/2019 | Originally approved as 33-15-01-08 on 6/26/1992, 57 FR 28619.
33.1-15-01-09 | Severability | 1/1/2019 | 3/15/2019 | [Insert Federal Register citation], 2/5/2019 | Originally approved as 33-15-01-09 on 5/12/1989, 54 FR 20574.
33.1-15-01-10 | Land use plans and zoning regulations | 1/1/2019 | 3/15/2019 | [Insert Federal Register citation], 2/5/2019 | Originally approved as 33-15-01-10 on 5/12/1989, 54 FR 20574.
33.1-15-01-12 | Measurement of emissions of air contaminants | 1/1/2019 | 3/15/2019 | [Insert Federal Register citation], 2/5/2019 | Originally approved as 33-15-01-12 on 2/28/2003, 68 FR 9565.
33.1-15-01-13 | Shutdown and malfunction of an installation—Requirement for notification | 1/1/2019 | 3/15/2019 | [Insert Federal Register citation], 2/5/2019 | Originally approved as 33-15-01-13 on 10/21/2016, 81 FR 72718.
33.1-15-01-14 | Time schedule for compliance | 1/1/2019 | 3/15/2019 | [Insert Federal Register citation], 2/5/2019 | Originally approved as 33-15-01-14 on 5/12/1989, 54 FR 20574.
33.1-15-01-15 | Prohibition of air pollution | 1/1/2019 | 3/15/2019 | [Insert Federal Register citation], 2/5/2019 | Originally approved as 33-15-01-15 on 2/28/2003, 68 FR 9565.
33.1-15-01-16 | Confidentiality of records | 1/1/2019 | 3/15/2019 | [Insert Federal Register citation], 2/5/2019 | Originally approved as 33-15-01-16 on 5/12/1989, 54 FR 20574.
33.1-15-01-17 | Enforcement | 1/1/2019 | 3/15/2019 | [Insert Federal Register citation], 2/5/2019 | Originally approved as 33-15-01-17 on 10/21/2004, 69 FR 61762.
33.1-15-01-18 | Compliance Certifications | 1/1/2019 | 3/15/2019 | [Insert Federal Register citation], 2/5/2019 | Originally approved as 33-15-01-18 on 10/21/2004, 69 FR 61762.
33.1-15-02. Ambient Air Quality Standards
33.1-15-02-01 | Scope | 1/1/2019 | 3/15/2019 | [Insert Federal Register citation], 2/5/2019 | Originally approved as 33-15-02-01 on 5/12/1989, 54 FR 20574.
33.1-15-02-02 | Purpose | 1/1/2019 | 3/15/2019 | [Insert Federal Register citation], 2/5/2019 | Originally approved as 33-15-02-02 on 5/12/1989, 54 FR 20574.
33.1-15-02-03 | Air quality guidelines | 1/1/2019 | 3/15/2019 | [Insert Federal Register citation], 2/5/2019 | Originally approved as 33-15-02-03 on 5/12/1989, 54 FR 20574.
33.1-15-02-04 | Ambient air quality standards | 1/1/2019 | 3/15/2019 | [Insert Federal Register citation], 2/5/2019 | Originally approved as 33-15-02-04 on 5/2/2014, 79 FR 25021.
33.1-15-02-05 | Method of sampling and analysis | 1/1/2019 | 3/15/2019 | [Insert Federal Register citation], [Insert date of publication in the Federal Register] | Originally approved as 33-15-02-05 on 10/8/1996, 61 FR 52865.
33.1-15-02-06 | Reference conditions | 1/1/2019 | 3/15/2019 | [Insert Federal Register citation], 2/5/2019 | Originally approved as 33-15-02-06 on 5/12/1989, 54 FR 20574.
33.1-15-02-07 | Concentration of air contaminants in the ambient air restricted | 1/1/2019 | 3/15/2019 | [Insert Federal Register citation], 2/5/2019 | Originally approved as 33-15-02-07 on 5/2/2014, 79 FR 25021.
Table 1 | Ambient Air Quality Standards | 1/1/2019 | 3/15/2019 | [Insert Federal Register citation], 2/5/2019 | Originally approved as Table 1 on 10/21/2016, 81 FR 72718.
Table 2 | National Ambient Air Quality Standards | 1/1/2019 | 3/15/2019 | [Insert Federal Register citation], 2/5/2019 | Originally approved as Table 2 on 5/2/2014, 79 FR 25021.
33.1-15-03. Restriction of Emission of Visible Air Contaminants
33.1-15-03-01 | Restrictions applicable to existing installations | 1/1/2019 | 3/15/2019 | [Insert Federal Register citation], 2/5/2019 | Originally approved as 33-15-03-01 on 5/12/1989, 54 FR 20574.
33.1-15-03-02 | Restrictions applicable to new installations and all incinerators | 1/1/2019 | 3/15/2019 | [Insert Federal Register citation], 2/5/2019 | Originally approved as 33-15-03-02 on 5/12/1989, 54 FR 20574.
33.1-15-03-03 | Restrictions applicable to fugitive emissions | 1/1/2019 | 3/15/2019 | [Insert Federal Register citation], [Insert date of publication in the Federal Register] | Originally approved as 33-15-03-03 on 5/12/1989, 54 FR 20574.
33.1-15-03-03.1 | Restrictions applicable to flares | 1/1/2019 | 3/15/2019 | [Insert Federal Register citation], 2/5/2019 | Originally approved as 33-15-03-03.1 on 5/12/1989, 54 FR 20574.
33.1-15-03-04 | Exceptions | 1/1/2019 | 3/15/2019 | [Insert Federal Register citation], 2/5/2019 | Originally approved as 33-15-03-04 on 10/21/2016, 81 FR 72718.
33.1-15-03-05 | Method of measurement | 1/1/2019 | 3/15/2019 | [Insert Federal Register citation], 2/5/2019 | Originally approved as 33-15-03-05 on 10/10/2017, 82 FR 46919.
33.1-15-04. Open Burning Restrictions
33.1-15-04-01 | Refuse burning restrictions | 1/1/2019 | 3/15/2019 | [Insert Federal Register citation], 2/5/2019 | Originally approved as 33-15-04-01 on 5/27/2008, 73 FR 30308.
33.1-15-04-02 | Permissible open burning | 1/1/2019 | 3/15/2019 | [Insert Federal Register citation], 2/5/2019 | Originally approved as 33-15-04-02 on 10/21/2016, 81 FR 72718.
33.1-15-05. Emissions of Particulate Matter Restricted
33.1-15-05-01 | Restriction of emission of particulate matter from industrial processes | 1/1/2019 | 3/15/2019 | [Insert Federal Register citation], 2/5/2019 | Originally approved as 33-15-05-01 on 11/21/2014, 79 FR 63045.
33.1-15-05-02 | Maximum allowable emission of particulate matter from fuel burning equipment used for indirect heating | 1/1/2019 | 3/15/2019 | [Insert Federal Register citation], 2/5/2019 | Originally approved as 33-15-05-02 on 10/21/2004, 69 FR 61762.
33.1-15-05-03.2 | Refuse incinerators | 1/1/2019 | 3/15/2019 | [Insert Federal Register citation], 2/5/2019 | Originally approved as 33-15-05-03.2 on 11/4/2011, 76 FR 68317.
33.1-15-05-03.3 | Other waste incinerators | 1/1/2019 | 3/15/2019 | [Insert Federal Register citation], 2/5/2019 | Originally approved as 33-15-05-03.3 on 10/21/2004, 69 FR 61762.
33.1-15-05-04 | Methods of measurement | 1/1/2019 | 3/15/2019 | [Insert Federal Register citation], 2/5/2019 | Originally approved as 33-15-05-04 on 10/21/2016, 81 FR 72718.
33.1-15-06. Emissions of Sulfur Compounds Restricted
33.1-15-06-01 | Restriction of emissions of sulfur dioxide from use of fuel | 1/1/2019 | 3/15/2019 | [Insert Federal Register citation], 2/5/2019 | Originally approved as 33-15-06-01 on 10/21/2004, 69 FR 61762 See 63 FR 45722 (8/27/98) for additional material.
33.1-15-06-02 | Restriction of emissions of sulfur oxides from industrial processes | 1/1/2019 | 3/15/2019 | [Insert Federal Register citation], 2/5/2019 | Originally approved as 33-15-06-02 on 10/20/1993, 58 FR 54041.
33.1-15-06-03 | Methods of measurement | 1/1/2019 | 3/15/2019 | [Insert Federal Register citation], 2/5/2019 | Originally approved as 33-15-06-03 on 10/21/2004, 69 FR 61762.
33.1-15-06-04 | Continuous emission monitoring requirements | 1/1/2019 | 3/15/2019 | [Insert Federal Register citation], 2/5/2019 | Originally approved as 33-15-06-04 on 10/20/1993, 58 FR 54041.
33.1-15-06-05 | Reporting and recordkeeping requirements | 1/1/2019 | 3/15/2019 | [Insert Federal Register citation], 2/5/2019 | Originally approved as 33-15-06-05 on 10/21/2016, 81 FR 72718.
33.1-15-07. Control of Organic Compounds Emissions
33.1-15-07-01 | Requirements for construction of organic compounds facilities | 1/1/2019 | 3/15/2019 | [Insert Federal Register citation], 2/5/2019 | Originally approved as 33-15-07-01 on 8/31/1999, 64 FR 47395.
33.1-15-07-02 | Requirements for organic compounds gas disposal | 1/1/2019 | 3/15/2019 | [Insert Federal Register citation], 2/5/2019 | Originally approved as 33-15-07-02 on 8/21/1995, 60 FR 43396.
33.1-15-08. Control of Air Pollution From Vehicles and Other Internal Combustion Engines
33.1-15-08-01 | Internal combustion engine emissions restricted | 1/1/2019 | 3/15/2019 | [Insert Federal Register citation], 2/5/2019 | Originally approved as 33-15-08-01 on 11/2/1979, 44 FR 63102.
33.1-15-08-02 | Removal and/or disabling of motor vehicle pollution control devices prohibited | 1/1/2019 | 3/15/2019 | [Insert Federal Register citation], 2/5/2019 | Originally approved as 33-15-08-02 on 11/2/1979, 44 FR 63102.
33.1-15-10. Control of Pesticides
33.1-15-10-01 | Pesticide use restricted | 1/1/2019 | 3/15/2019 | [Insert Federal Register citation], 2/5/2019 | Originally approved as 33-15-10-01 on 8/9/1990, 55 FR 32403.
33.1-15-10-02 | Restrictions on the disposal of surplus pesticides and empty pesticide containers | 1/1/2019 | 3/15/2019 | [Insert Federal Register citation], 2/5/2019 | Originally approved as 33-15-10-02 on 6/26/1992, 57 FR 28619.
33.1-15-11. Prevention of Air Pollution Emergency Episodes
33.1-15-11-01 | Air pollution emergency | 1/1/2019 | 3/15/2019 | [Insert Federal Register citation], 2/5/2019 | Originally approved as 33-15-11-01 on 5/12/1989, 54 FR 20574.
33.1-15-11-02 | Air pollution episode criteria | 1/1/2019 | 3/15/2019 | [Insert Federal Register citation], 2/5/2019 | Originally approved as 33-15-11-02 on 5/12/1989, 54 FR 20574.
33.1-15-11-03 | Abatement strategies emission reduction plans | 1/1/2019 | 3/15/2019 | [Insert Federal Register citation], 2/5/2019 | Originally approved as 33-15-11-03 on 5/12/1989, 54 FR 20574.
33.1-15-11-04 | Preplanned abatement strategies plans | 1/1/2019 | 3/15/2019 | [Insert Federal Register citation], 2/5/2019 | Originally approved as 33-15-11-04 on 8/9/1990, 55 FR 32403.
Table 6 | Air pollution episode criteria | 1/1/2019 | 3/15/2019 | [Insert Federal Register citation], 2/5/2019 | Originally approved as Table 6 on 4/21/1997, 62 FR 19224.
Table 7 | Abatement strategies emission reduction plans | 1/1/2019 | 3/15/2019 | [Insert Federal Register citation], 2/5/2019 | Originally approved as Table 7 on 4/21/1997, 62 FR 19224.
33.1-15-14. Designated Air Contaminant Sources, Permit To Construct, Minor Source Permit To Operate, Title V Permit To Operate
33.1-15-14-01 | Designated air contaminant sources | 1/1/2019 | 3/15/2019 | [Insert Federal Register citation], 2/5/2019 | Originally approved as 33-15-14-01 on 5/2/2014, 79 FR 25021.
33.1-15-14-01.1 | Definitions | 1/1/2019 | 3/15/2019 | [Insert Federal Register citation], 2/5/2019 | Originally approved as 33-15-14-01 on 4/21/1997, 62 FR 19224.
33.1-15-14-02 | Permit to construct | 1/1/2019 | 3/15/2019 | [Insert Federal Register citation], 2/5/2019 | Originally approved as 33-15-14-02 on 10/10/2017, 82 FR 46919 Excluding subsections 1, 12, 13, 3.c., 13.b.1., 5, 13.c., 13.i(5), 13.o., and 19 (one sentence) which were subsequently revised and approved. See 57 FR 28619 (6/26/92), regarding State's commitment to meet requirements of EPA's “Guideline on Air Quality Models (revised).”.
33.1-15-14-03 | Minor source permit to operate | 1/1/2019 | 3/15/2019 | [Insert Federal Register citation], 2/5/2019 | Originally approved as 33-15-14-03 on 5/2/2014, 79 FR 25021.
33.1-15-14-07 | Source exclusion from title V permit to operate requirements | 1/1/2019 | 3/15/2019 | [Insert Federal Register citation], 2/5/2019 | Originally approved as 33-15-14-07 on 2/28/2003, 68 FR 9565.
33.1-15-15. Prevention of Significant Deterioration of Air Quality
33.1-15-15-01.1 | Purpose | 1/1/2019 | 3/15/2019 | [Insert Federal Register citation], 2/5/2019 | Originally approved as 33-15-15-01 on 7/19/2007, 72 FR 39564.
33.1-15-15-01.2 | Scope | 1/1/2019 | 3/15/2019 | [Insert Federal Register citation], 2/5/2019 | Originally approved as 33-15-15-01 on 10/21/2016, 81 FR 72718 Except for the revision associated with 40 CFR 52.21(l)(1).
33.1-15-15-02 | Reclassification | 1/1/2019 | 3/15/2019 | [Insert Federal Register citation], 2/5/2019 | Originally approved as 33-15-15-02 on 7/19/2007, 72 FR 39564.
33.1-15-17. Restriction of Fugitive Emissions
33.1-15-17-01 | General provisions—applicability and designation of affected facilities | 1/1/2019 | 3/15/2019 | [Insert Federal Register citation], 2/5/2019 | Originally approved as 33-15-17-01 on 2/28/2003, 68 FR 9565.
33.1-15-17-02 | Restriction of fugitive particulate emissions | 1/1/2019 | 3/15/2019 | [Insert Federal Register citation], 2/5/2019 | Originally approved as 33-15-17-02 on 10/21/2016, 81 FR 72718.
33.1-15-17-03 | Reasonable precautions for abating and preventing fugitive particulate emissions | 1/1/2019 | 3/15/2019 | [Insert Federal Register citation], 2/5/2019 | Originally approved as 33-15-17-03 on 11/2/1979, 44 FR 63102.
33.1-15-17-04 | Restriction of fugitive gaseous emissions | 1/1/2019 | 3/15/2019 | [Insert Federal Register citation], 2/5/2019 | Originally approved as 33-15-17-04 on 11/2/1979, 44 FR 63102.
33.1-15-18. Stack Heights
33.1-15-18-01 | General provisions | 1/1/2019 | 3/15/2019 | [Insert Federal Register citation], 2/5/2019 | Originally approved as 33-15-18-01 on 11/14/1988, 53 FR 45763.
33.1-15-18-02 | Good engineering practice demonstrations | 1/1/2019 | 3/15/2019 | [Insert Federal Register citation], 2/5/2019 | Originally approved as 33-15-18-02 on 11/14/1988, 53 FR 45763.
33.1-15-18-03 | Exemptions | 1/1/2019 | 3/15/2019 | [Insert Federal Register citation], 2/5/2019 | Originally approved as 33-15-18-03 on 11/14/1988, 53 FR 45763.
33.1-15-19. Visibility Protection
33.1-15-19-01 | General provisions | 1/1/2019 | 3/15/2019 | [Insert Federal Register citation], 2/5/2019 | Originally approved as 33-15-19-01 on 9/28/88, 53 FR 37757.
33.1-15-19-02 | Review of new major stationary sources and major modifications | 1/1/2019 | 3/15/2019 | [Insert Federal Register citation], 2/5/2019 | Originally approved as 33-15-19-02 on 9/28/88, 53 FR 37757.
33.1-15-19-03 | Visibility monitoring | 1/1/2019 | 3/15/2019 | [Insert Federal Register citation], 2/5/2019 | Originally approved as 33-15-19-03 on 9/28/88, 53 FR 37757.
33.1-15-20. Control of Emissions From Oil and Gas Well Production Facilities
33.1-15-20-01 | General provisions | 1/1/2019 | 3/15/2019 | [Insert Federal Register citation], 2/5/2019 | Originally approved as 33-15-20-01 on 8/21/95, 60 FR 43396.
33.1-15-20-02 | Registration and reporting requirements | 1/1/2019 | 3/15/2019 | [Insert Federal Register citation], 2/5/2019 | Originally approved as 33-15-20-02 on 8/21/95, 60 FR 43396.
33.1-15-20-03 | Prevention of significant deterioration applicability and source information requirements | 1/1/2019 | 3/15/2019 | [Insert Federal Register citation], 2/5/2019 | Originally approved as 33-15-20-03 on 8/21/95, 60 FR 43396.
33.1-15-20-04 | Requirements for control of production facility emissions | 1/1/2019 | 3/15/2019 | [Insert Federal Register citation], 2/5/2019 | Originally approved as 33-15-20-04 on 6/26/92, 57 FR 28619.
33.1-15-23. Fees
33.1-15-23-01 | Definitions | 1/1/2019 | 3/15/2019 | [Insert Federal Register citation], 2/5/2019 | Originally approved as 33-15-23-01 on 4/21/97, 62 FR 19224.
33.1-15-23-02 | Permit to construct fees | 1/1/2019 | 3/15/2019 | [Insert Federal Register citation], 2/5/2019 | Originally approved as 33-15-23-02 on 10/21/16, 81 FR 72718.
33.1-15-23-03 | Minor source permit to operate fees | 1/1/2019 | 3/15/2019 | [Insert Federal Register citation], 2/5/2019 | Originally approved as 33-15-23-03 on 10/21/16, 81 FR 72718.
33.1-15-25. Regional Haze Requirements
33.1-15-25-01 | Definitions | 1/1/2019 | 3/15/2019 | [Insert Federal Register citation], 2/5/2019 | Originally approved as 33-15-25-01 on 4/6/12, 77 FR 20894.
33.1-15-25-02 | Best available retrofit technology | 1/1/2019 | 3/15/2019 | [Insert Federal Register citation], 2/5/2019 | Originally approved as 33-15-25-02 on 4/6/12, 77 FR 20894.
33.1-15-25-03 | Guidelines for best available retrofit technology determinations under the regional haze rule | 1/1/2019 | 3/15/2019 | [Insert Federal Register citation], 2/5/2019 | Originally approved as 33-15-25-03 on 4/6/12, 77 FR 20894.
33.1-15-25-04 | Monitoring, recordkeeping, and reporting | 1/1/2019 | 3/15/2019 | [Insert Federal Register citation], 2/5/2019 | Originally approved as 33-15-25-04 on 4/6/12, 77 FR 20894.

* * * * *

[FR Doc. 2019-00712 Filed 2-4-19; 8:45 am]

BILLING CODE 6560-50-P